FEDERAL COMMUNICATIONS COMMISSION

47 CFR Part 73

[DA 02-1478, MB Docket No. 02-65, RM-10370]

Digital Television Broadcast Service; Georgetown, SC

AGENCY: Federal Communications Commission.

ACTION: Final rule.

SUMMARY: The Commission, at the request of Community Television, Inc., an applicant for a new station to operate on channel *41 at Georgetown, South Carolina, substitutes DTV channel *38 for channel *41- at Georgetown. See 67 FR 15769, April 3, 2002. DTV channel *38 can be allotted to Georgetown, South Carolina, in compliance with the principle community coverage requirements of Section 73.625(a) at reference coordinates 33-25-58 N. and 79-16-16 W. with a power of 500, HAAT of 144 meters and with a DTV service population of 220 thousand. With is action, this proceeding is terminated.

DATES: Effective August 15, 2002.

FOR FURTHER INFORMATION CONTACT: Pam Blumenthal, Media Bureau, (202) 418-1600.

SUPPLEMENTARY INFORMATION: This is a synopsis of the Commission's Report and Order, MB Docket No. 02-65, adopted June 24, 2002, and released July 1, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for part 73 continues to read as follows:

Authority: 47 U.S.C. 154, 303, 334 and 336.

§ 73.606 [Amended]

2. Section 73.606(b), the Table of Television Allotments under South Carolina, is amended by removing Georgetown, TV channel *41-.

§ 73.622 [Amended]

3. Section 73.622(b), the Table of Digital Television Allotments under South Carolina, is amended by adding Georgetown, DTV channel *38.

Federal Communications Commission.
Barbara A. Kreisman,
Chief, Video Division, Media Bureau.

[FR Doc. 02-16871 Filed 7-3-02; 8:45 am]

BILLING CODE 6712-01-P